DEPARTMENT OF THE INTERIOR

Bureau of Land Management

[UT-LLUT02000-08-14300000-FR0000-241A.00; UTU-66588-02]

Recreation & Public Purposes Act Classification; Utah

AGENCY: Bureau of Land Management, Interior.

ACTION: Notice of Realty Action.

SUMMARY: The Bureau of Land Management (BLM) has determined that public lands in Tooele County, Utah have been examined and found suitable for classification for conveyance to the City of Wendover, Utah under the provisions of the Recreation and Public Purposes Act, as amended (43 U.S.C. 869).

DATES: Comments regarding the proposed conveyance must be received by the BLM on or before December 15, 2008. Comments should reference the serial number UTU-66588-02. Comments on the classification are restricted to whether the land is physically suited for the proposal, whether the use will maximize use or uses of the land, whether the use is consistent with local planning and zoning, or if the use is consistent with State and Federal Programs.

ADDRESSES: Comments may be submitted to the Bureau of Land Management, Salt Lake City Field Office, 2370 South 2300 West, Salt Lake City, UT 84119. Before including your address, phone number, e-mail address, or other personal identifying information in your comment, you should be aware that your entire comment—including your personal identifying information—may be made publicly available at any time. While you can ask us in your comment to withhold your personal identifying information from public review, we cannot guarantee that we will be able to do so.

FOR FUTHER INFORMATION CONTACT: David Watson, Realty Specialist, BLM Salt Lake Field Office, (801) 977-4368, David_S_Watson@blm.gov.

SUPPLEMENTARY INFORMATION: The City of Wendover has filed an application under the provisions of the R&PP Act of June 14, 1926, as amended (43 U.S.C. 869) to purchase the public land described above for a city cemetery, which they have managed under a R&PP Lease for the past 18 years. The R&PP Act provides for purchase of public lands by units of local government for public purposes such as cemeteries at one half their fair market value. The City of Wendover proposes to continue to use the following described public land for a city cemetery.

Salt Lake Meridian, Utah.

T. 1 S., R. 19 W.,

Sec. 7: Lot 7.

Contains approximately 10 acres in Tooele County, Utah.

The land is not needed for any Federal purposes. Conveyance is consistent with current BLM land use planning, The Pony Express Resource Management Plan—1990, and would be in the public interest.

The patent, when issued, will be subject to the following terms, conditions and reservations:

1. Provisions of the Recreation and Public Purposes Act and all applicable regulations of the Secretary of the Interior.

2. A rights-of-way for ditches or canals constructed by authority of the United States, Act of August 30, 1890 (43 U.S.C. 945).

3. All valid existing rights.

4. The United States will reserve all mineral together with the right to prospect for, mine and remove the minerals under applicable laws and such regulations as the Secretary of the Interior may prescribe, including all necessary access and exit rights.

5. The patentee, its successors or assigns, by accepting a patent, agrees to indemnify, defend, and hold harmless the United States, its officers, agents, representatives, and employees (hereinafter “United States”) from any costs, damages, claims, causes of action in connection with the patentee's use, occupancy, or operations on the patented real property. This agreement includes, but is not limited to, acts or omissions of the patentee and its employees, agents, contractors, lessees, or any third party arising out of, or in connection with, the patentee's use, occupancy, or operations on the patented real property which cause or give rise to, in whole or in part: (1) Violations of Federal, State, and local laws and regulations that are now, or may in the future become, applicable to the real property and/or applicable to the use, occupancy, and/or operations thereon; (2) judgments, claims, or demands of any kind assessed against the United States; (3) costs, expenses, or damages of any kind incurred by the United States; (4) releases or threatened releases of solid or hazardous waste(s) and/or hazardous substances(s), pollutant(s), or contaminants(s), and/or petroleum product(s) or derivative(s) of a petroleum product, as defined by Federal or State environmental laws; of, on, into, or under land, property, and other interests of the United States; (5) other activities by which solid or hazardous substance(s) or waste(s), pollutant(s) or contaminant(s), or petroleum product(s) or derivative(s) of a petroleum product as defined by Federal or State environmental laws are generated, stored, used, or otherwise disposed of on the patented real property, and any cleanup response, remedial action, or other actions related in any manner to the said solid or hazardous substance(s) or waste(s) or contaminant(s), or petroleum product(s) or derivative(s) of a petroleum product as defined by Federal or State laws. Patentee shall stipulate that it will be solely responsible for compliance with all applicable Federal, State, and local environmental laws and regulatory provisions, throughout the life of the facility, including any closure and/or post-closure requirements that may be imposed with respect to any physical plant and/or facility upon the real property under any Federal, State, or local environmental laws or regulatory provisions. In the case of a patent being issued, this covenant shall be construed as running with the patented real property and may be enforced by the United States in a court of competent jurisdiction.

Classification Comments: Additional detailed information concerning this Notice of Realty Action, including environmental records, is available for review at the BLM Salt Lake Field Office, at the above address. Office hours are 8 a.m. to 4:30 p.m., Monday through Friday except holidays.

Application Comments: Interested parties may submit comments regarding the specific use proposed in the application and plan of development, whether the BLM followed proper administrative procedures in reaching the decision, or any other factor not directly related to the suitability of the land for a cemetery.

Upon publication of this notice in the Federal Register the lands covered by the application shall be segregated to the extent that they will not be subject to appropriation under the public land laws including the general mining laws except for conveyance under the Recreation and Public Purposes Act.

The State Director will review any adverse comments. In the absence of any adverse comments, the classification will become effective 60 days from the date of publication in the Federal Register.

Dated: October 23, 2008.
Jeff Rawson,
Acting State Director.

[FR Doc. E8-25780 Filed 10-28-08; 8:45 am]

BILLING CODE 4310-DQ-P